ENVIRONMENTAL PROTECTION AGENCY

[FRL-7546-6]

Proposed Agreement Pursuant to Sections 122(g) and (h) of the Comprehensive Environmental Response, Compensation, and Liability Act for the Chemical Recovery Systems Superfund Site

AGENCY: Environmental Protection Agency (“EPA”).

ACTION: Notice; request for public comment on proposed de minimis settlement.

SUMMARY: In accordance with Section 122(i) of the Comprehensive Environmental Response, Compensation, and Liability Act, as amended (“CERCLA”), 42 U.S.C. 9622(i), notice is hereby given of a proposed administrative settlement for recovery of response costs concerning the Chemical Recovery Systems Superfund Site in Elyria, Ohio. EPA proposes to enter into this agreement under the authority of sections 122(g) and (h) and 107 of CERCLA. In addition to the review by the public pursuant to this document, the agreement has been approved by the United States Department of Justice. The proposed agreement has been executed by the following eighty three (83) de minimis parties:

3M Company

Adelphia, Inc.

Aexcel Corporation (f/k/a DeSantis Coatings)

Alcoa Building Products, Inc. (f/k/a Stolle Corporation)

American Colors, Inc.

American Greetings Corporation

Auto & Industrial Finishes, Inc.

Barr, Inc.

BASF Corp. (Limbacher Paint & Color Works, Inc.)

Bayer Polymers, LLC (f/k/a Mobay)

Benjamin Moore (f/k/a Technical Coatings, Inc.)

Berenfield Containers, Inc.

Borden Chemical, Inc.

Borg Warner, Inc. (Borg-Warner Corporation)

Bosch Rexroth Corp. (Mannesman Rexroth/Rexroth Corp.)

Bridgestone/Firestone North American Tire, LLC (Firestone Tire & Rubber)

Browning Ferris Industries of Ohio, Inc.

Bucyrus International, Inc. (Bucyrus Erie)

Bud Industries, Inc.

Chemcentral Corp.

Chemical Distributors, Inc.

Chemtron Corp.

C L Holdings, Inc. (f/k/a Conneaut Leather, Inc.)

Crown Beverage Packing, Inc; Crown Cork & Seal Co., Inc.; and Level 3 Communications, Inc.; (f/k/a Continental Can Company, Inc.)

Cytec Olean, Inc. (f/k/a Conap, Inc.)

CWM Chemical Service, LLC (f/k/a Chemtrol)

DaimlerChrysler Corp. (Chrysler Plastic Products)

Dorn Color, Inc.

Dow Corning Corporation

Eastman Kodak Company

FBC Chemical Corporation

Ferriot Inc. (f/k/a Ferriot Brothers, Inc.)

FirstEnergy Nuclear Operating Co. (Painesville Nuclear Plant)

Foseco Metallurgical, Inc.

Franklin International (Franklin Chemical/Glue)

General Electric Company

Great Lakes Terminal & Transportation Corp. of Pennsylvania

Hasbro, Inc. (Kenner Toys)

Honeywell International, Inc. (Sinclair & Valentine)

Hoover Company, The

Hubbell Power Systems, Inc. (Ohio Brass)

Hukill Chemical Corporation

Ingersoll-Rand (Clark Equipment Company)

International Paper (Masonite/Marlite)

ITW Food Equipment Group, LLC (Hobart Corp.)

J C Whitlam Manufacturing Company

Kalcor Coatings Company

Liberty Solvents and Chemicals

Mahoning Paint Company

Mameco International

Marconi Communications, Inc. (Lorain Products)

Miller Studio, Inc.

Moen, Inc. (Stanadyne, Inc.)

Molded Fiber Glass Companies

Neville Chemical Company

Nordson Corporation

Northrop Grumman Space & Mission Systems Corp. (TRW, Inc.)

Ohio Dept. of Transportation

Owens-Illinois, Inc.

Parker Hannifin Corp., Nichols Airborne Division (Airborne Manufacturing)

Pfizer (Parke-Davis & Co./Warner Lambert, LLC)

Philip Services Corp. (Nortru, Inc.)

Plas-Tanks Industries, Inc.

Quality Synthetic Rubber, Inc.

R. W. Beckett Corporation

Rexam Beverage Can Americas (National Can)

Robertson Ceco Corporation (f/k/a H. H. Robertson Co.)

Rockwell International

Ruscoe Company, The (W.J. Ruscoe Co.)

Scott Fetzer Company, The (Quikut)

Shell Oil Company (Shell Chemical Co.)

Taylor Metal Products Corp.

Technical Products, Inc.

Tecumseh Products Company

Temperature Control Company

ThermaTru Corp. (Lake Shore Industries)

Therm-O-Disc, Inc.

Thomas Steel Strip Corp.

U S Chemical & Plastics

Universal Cooperatives

Viacom, Inc. (Luxaire, Inc.)

Whirlpool Corp.

Wooster Brush Company, The

This settlement agreement requires the settling parties to pay a total of $651,200 to the Hazardous Substance Superfund. The settlement also includes a covenant not to sue the settling parties pursuant to section 107(a) of CERCLA, 42 U.S.C. 9607(a).

For thirty (30) days following the date of publication of this notice, the Agency will receive written comments relating to the settlements. The Agency will consider all comments received and may modify or withdraw its consent to the settlements if comments received disclose facts or considerations which indicate that the settlements are inappropriate, improper, or inadequate.

Background: Additional background information on the Site is available for public inspection at the following locations: Elyria Public Library, 320 Washington Ave., Elyria, OH 44305. Records Center, U.S. EPA, Region 5, 7th Floor, 77 W. Jackson Blvd., Chicago, IL 60604-3590.

Dates: Comments on the proposed agreement must be received by EPA on or before September 19, 2003.

ADDRESSES: Comments should be addressed to the Docket Clerk, U.S. Environmental Protection Agency, Region 5, 77 West Jackson Boulevard, Chicago, Illinois 60604-3590, and should refer to: In the Matter of Chemical Recovery Systems Site, U.S. EPA Docket No. V-W-03-C-750.

FOR FURTHER INFORMATION CONTACT: Thomas C. Nash, U.S. Environmental Protection Agency, Office of Regional Counsel, C-14J, 77 West Jackson Boulevard, Chicago, Illinois 60604-3590, (312) 886-0552.

A copy of the proposed administrative settlement agreement may be obtained in person or by mail from the EPA's Region 5 Office of Regional Counsel, 77 West Jackson Boulevard, Chicago, Illinois 60604-3590.

Authority: The Comprehensive Environmental Response, Compensation, and Liability Act, as amended, 42 U.S.C. 9601-9675.

Dated: August 7, 2003.
William Muno,
Director, Superfund Division.

[FR Doc. 03-21349 Filed 8-19-03; 8:45 am]

BILLING CODE 6560-50-M